DEPARTMENT OF ENERGY

Federal Energy Regulatory Commission

Notice of Application Ready for Environmental Analysis and Soliciting Comments, Recommendations, Terms and Conditions, and Prescriptions

July 13, 2000.

Take notice that the following hydroelectric application has been filed with the Commission and is available for public inspection:

a. Type of Application: New Major License.

b. Project No.: 2047-004.

c. Date filed: June 23, 1998.

d. Applicant: Erie Boulevard Hydropower, L.P..

e. Name of Project: Stewarts Bridge Hydroelectric Project.

f. Location: On the Sacandaga River, about 3 miles upstream from its confluence with the Hudson River, in the town of Hadley, Saratoga County, New York. The project would not utilize federal lands.

g. Filed Pursuant to: Federal Power Act, 16 U.S.C. 791(a)-825(r).

h. Applicant Contact: Mr. Jerry L. Sabattis, Hydro Licensing Coordinator, 225 Greenfield Parkway, Suite 201, Liverpool, New York 13088, (315) 413-2787.

i. FERC Contact: Lee Emery, E-mail address, Lee.Emery@ferc.fed.us, or telephone (202) 219-2779.

j. Deadline for comments, recommendations, terms and conditions, and prescriptions: 60 days from the issuance date of this notice.

All documents (original and eight copies) should be filed with: David P. Boergers, Secretary, Federal Energy Regulatory Commission, 888 First Street, NE, Washington, DC 20426.

The Commission's Rules of Practice and Procedure require all intervener filing documents with the Commission to serve a copy of that document on each person whose name appears on the official service list for the project. Further, if an intervener files comments or documents with the Commission relating to the merits of an issue that may affect the responsibilities of a particular resource agency, they must also serve a copy of the document on that resource agency.

k. Status of environmental analysis: This application has been accepted for filing and is ready for environmental analysis at this time.

l. Description of the Project: The existing, operating project consists of: (1) A 1,860-foot-long dam consisting of: (a) A 1,646-foot-long rolled, compacted earth-fill structure 112 feet high at its highest point (crest elevation of 714.0 feet) with a base that varies from 120 feet to 680 feet in width; (b) a reinforced concrete Taintor gate spillway measuring 151 feet long, 49.7 feet wide, and 34 feet high, containing five 27-foot-long by 14.5-foot-high steel Taintor gates; (c) a 63-foot-long reinforced concrete intake structure equipped with two 25-foot-high by 22-foot-wide steel gates with 3⅝-inch clear spaced steel bar trashracks located directly in front of the gates; and (d) a 29-foot-wide roadway along the crest of the dam; (2) a reservoir (Stewart's Bridge Reservoir) with a surface area of 480 acres at a normal water surface elevation of 705.0 feet National Geodetic Vertical Datum; (3) a 10-foot-diameter, plugged diversion conduit used to pass river flows during project construction; (4) an 850-foot-long plastic concrete seepage barrier constructed through the impervious dam core; (5) a 216-foot-long, 22-foot inside diameter steel penstock; (6) an 88-foot-long by 78-foot-wide brick-faced structural steel framed powerhouse with one vertical Francis turbine/generator unit; (7) a tailrace which extends 450 feet downstream from the powerhouse; (8) an outdoor transformer, switching station, and 400-foot-long transmission line; and (9) appurtenant facilities. There is no bypassed reach. The project has an installed capacity of 30.0 megawatts and an annual average energy production of 118,678 megawatt hours.

The project currently operates as a peaking facility in tandem with the upstream E.J. West Project (P-2318), generating 12 hours a day (typically between 8 AM to 10 PM). Daily reservoir fluctuations are less than one foot most of the year except for maintenance drawdowns that approach 15 feet and are timed to coincide with the drawdowns of Great Sacandaga Lake which begin in mid-March.

m. Locations of the Application: A copy of the application is available for inspection and reproduction at the Commission's Public Reference Room, located at 888 First Street, NE, Room 2A, Washington, DC 20426, or by calling (202) 208-1371. The application may be viewed on the web at http://www.ferc.fed.us/online/rims.htm (call 202-208-2222 for assistance). A copy is also available for inspection and reproduction at the address in item h. above.

Filing and Service or Responsive Documents—The application is ready for environmental analysis at this time, and the Commission is requesting comments, reply comments, recommendations, terms and conditions, and prescriptions.

The Commission directs, pursuant to section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) Bear in all capital letters the title “COMMENTS”, “REPLY COMMENTS”, “RECOMMENDATIONS”, “TERMS AND CONDITIONS”, or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and the number of copies required by the Commission's regulations to: The Secretary, Federal Energy Regulatory Commission, 888 First Street, NE, Washington, DC 20426. An additional copy must be sent to Director, Division of Environmental Engineering Review, Federal Energy Regulatory Commission, at the above address. Each filing must be accompanied by proof of service on all persons listed on the service list prepared by the Commission in this proceeding, in accordance with 18 CFR 4.34(b), and 385.2010.

David P. Boergers,
Secretary.

[FR Doc. 00-18202 Filed 7-18-00; 8:45 am]

BILLING CODE 6717-01-M